DEPARTMENT OF HEALTH AND HUMAN SERVICES

Solicitation of Nominations for Appointment to the Presidential Advisory Council on Combating Antibiotic-Resistant Bacteria; Amendment

AGENCY: Office of the Assistant Secretary for Health, Office of the Secretary, Department of Health and Human Services.

ACTION: Notice; amendment.

SUMMARY: A notice was published in the Federal Register on Monday, March 30, 2015 (80 FR 16684), to solicit nominations of individuals who are interested in being considered for appointment to the Presidential Advisory Council on Combating Antibiotic-Resistant Bacteria (Advisory Council). The nomination period is scheduled to end close of business on April 29, 2015. The notice is being amended to extend the solicitation period for two weeks to allow more time for interested individuals to submit nominations.

DATES: The solicitation period has been extended. All nominations are due to be submitted on or before May 13, 2015.

ADDRESSES: All nominations should be sent to: Bruce Gellin, M.D., M.P.H., Deputy Assistant Secretary for Health; Office of the Assistant Secretary for Health; Department of Health and Human Services; 200 Independence Avenue SW., Room 715H; Washington, DC 20201. Nomination materials, including attachments, also may be submitted electronically to CARB@hhs.gov.

FOR FURTHER INFORMATION CONTACT: Bruce Gellin, M.D., M.P.H., Deputy Assistant Secretary for Health; Office of the Assistant Secretary for Health; Department of Health and Human Services; Telephone: (202) 260-6638; Fax: (202) 690-4631; Email address: CARB@hhs.gov. The Advisory Council charter may be accessed online at http://www.hhs.gov/ash/carb. The charter includes detailed information about the Advisory Council's purpose, function, and structure.

Dated: April 29, 2015.
Sylvia M. Burwell,
Secretary of Health and Human Services.

[FR Doc. 2015-10443 Filed 5-4-15; 8:45 am]

BILLING CODE 4150-28-P